DEPARTMENT OF COMMERCE

National Oceanic and Atmospheric Administration

50 CFR Part 622

RIN 0648-BD05

Fisheries of the Caribbean, Gulf of Mexico, and South Atlantic; Snapper-Grouper Fishery Off the Southern Atlantic States; Amendment 27

AGENCY: National Marine Fisheries Service (NMFS), National Oceanic and Atmospheric Administration (NOAA), Commerce.

ACTION: Notice of availability; request for comments.

SUMMARY: The South Atlantic Fishery Management Council (Council) has submitted Amendment 27 (Amendment 27) to the Fishery Management Plan for the Snapper-Grouper Fishery of the South Atlantic Region (FMP) for review, approval, and implementation by NMFS. Amendment 27 would extend the South Atlantic Council's jurisdiction for management of Nassau grouper into the Gulf of Mexico (Gulf) exclusive economic zone (EEZ); increase the number of allowable crew members to four on dual-permitted snapper-grouper vessels (i.e., vessels holding a South Atlantic Charter Vessel/Headboat Permit for Snapper-Grouper and a commercial South Atlantic Unlimited or a 225-Pound Trip Limit Snapper-Grouper Permit) that are fishing commercially; remove the prohibition on retaining any fish under the aggregate bag limit for grouper and tilefish or the vermilion snapper bag limit by captain and crew of federally-permitted for-hire vessels; modify the snapper-grouper framework procedures to allow acceptable biological catch levels (ABCs), annual catch limits (ACLs), and annual catch targets (ACTs) to be adjusted via an abbreviated framework process; and remove blue runner from the FMP.

DATES: Written comments must be received on or before November 18, 2013.

ADDRESSES: You may submit comments on the amendment identified by “NOAA-NMFS-2013-0085” by any of the following methods:

• Electronic submissions: Submit electronic comments via the Federal e-Rulemaking Portal: http://www.regulations.gov. Go to www.regulations.gov/#!docketDetail;D=NOAA-NMFS-2013-0085, click the “Comment Now!” icon, complete the required fields, and enter or attach your comments.

• Mail: Kate Michie, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 27 may be obtained from the Southeast Regional Office Web site at http://sero.nmfs.noaa.gov. Amendment 27 includes a Regulatory Impact Review and a Fishery Impact Statement.

FOR FURTHER INFORMATION CONTACT: Kate Michie, telephone: 727-824-5305, or email: Kate.Michie@noaa.gov.

SUPPLEMENTARY INFORMATION: The Magnuson-Stevens Fishery Conservation and Management Act (Magnuson-Stevens Act) requires each regional fishery management council to submit any fishery management plan or amendment to NMFS for review and approval, partial approval, or disapproval. The Magnuson-Stevens Act also requires that NMFS, upon receiving a plan or amendment, publish an announcement in the Federal Register notifying the public that the plan or amendment is available for review and comment.

Actions Contained in Amendment 27

Extension of Management Authority for Nassau Grouper to the South Atlantic Council

Amendment 27 includes an action to extend the South Atlantic Council's jurisdiction for management of Nassau grouper into the Gulf. On December 16, 2011, NMFS published a notice of agency action (76 FR 78245) designating the South Atlantic Council as the responsible Council to manage Nassau grouper in the Gulf, pursuant to requests by the South Atlantic and Gulf Fishery Management Councils. Therefore, through Amendment 27, the South Atlantic Council would assume management responsibility for Nassau grouper in Federal waters of the Gulf. The current restrictions on the harvest or possession of Nassau grouper in the Gulf EEZ and South Atlantic EEZ would continue if Amendment 27 is approved for implementation.

Increase in Crew Member Limit for Dual-Permitted Vessels

Currently, there is a crew size limit of three for vessels with both a South Atlantic Charter Vessel/Headboat Permit for Snapper-Grouper and a South Atlantic Unlimited or 225-Pound Permit for Snapper-Grouper (referred to as “dual-permitted” vessels) that are fishing commercially. For commercial spearfishing operations, this crew size limit prevents fishermen from diving in pairs using the buddy system while having a standby diver and captain at the surface as recommended by the U.S. Coast Guard diving operations manual. Therefore, Amendment 27 would increase the crew size from three to four, which would allow two persons to remain on the vessel while there are two divers in the water.

Removal of Captain and Crew Bag Limit Retention Restrictions for Snapper-Grouper Species

Amendment 16 to the FMP (Amendment 16) prohibited the captain and crew of vessels operating as a charter vessel or headboat (i.e., vessels with a valid South Atlantic Charter Vessel/Headboat Permit for Snapper-Grouper) from retaining gag, black grouper, red grouper, scamp, red hind, rock hind, coney, graysby, yellowfin grouper, yellowmouth grouper, yellowedge grouper, snowy grouper, misty grouper, vermilion snapper, sand tilefish, blueline tilefish, and golden tilefish to help end overfishing of gag and vermilion snapper. Subsequent to the implementation of Amendment 16, ACLs and AMs for all of these species have been established to end and/or prevent overfishing from occurring.

Analysis contained in Amendment 27 indicates allowing captain and crew to retain bag limit quantities of the species listed above would not negatively impact snapper-grouper stocks, including vermilion snapper and gag. Therefore, Amendment 27 would remove the current restriction for captain and crew on a vessel operating as a charter vessel or headboat to retain the bag limits of these snapper-grouper species.

Modify the Framework Procedures in the FMP

Currently, the Framework Procedures in the FMP allow ABCs, ACLs, and ACTs to be modified for snapper-grouper species via the regulatory amendment process, which can be lengthy. The lag time between when new scientific information becomes available and when catch levels can be adjusted has the potential to result in adverse impacts on the economic and biological environments of the snapper-grouper fishery. Therefore, Amendment 27 would allow ABCs, ACLs, and ACTs, to be modified using an abbreviated framework procedure, whereby after the South Atlantic Council has taken final action to change an ABC, ACL, or ACT, the Council would submit a letter with supporting data and information to the NMFS Southeast Regional Administrator (RA) requesting the desired changes to those applicable harvest parameters.

The RA would determine whether or not the requested modification may be warranted. If the modification may be warranted, NMFS would develop the appropriate documentation and analysis to comply with the National Environmental Policy Act and other applicable laws and propose the action through rulemaking. NMFS anticipates this expedited process will shorten the time it would take to make routine changes to harvest limits in response to new information.

Remove Blue Runner From the FMP

Blue runner was originally included in the FMP because it was thought to co-occur with other, more economically desirable species. Amendment 27 reevaluated the need for Federal management of blue runner based on updated information. The majority (99 percent) of commercial and recreational blue runner harvest occurs off the state of Florida (in Federal and state waters combined), with 76 percent of blue runner landings harvested in state waters (using landings data from 2005-2011) and a large portion of the recreational landings harvested from shore. Florida manages blue runner in state waters and blue runner is primarily used as bait, is not commonly retained for human consumption, and is exempt from any Federal bag and possession limit restrictions.

Based on this new information, the South Atlantic Council determined blue runner could be removed from the FMP without jeopardizing the health or sustainability of the stock. Therefore, Amendment 27, if approved, would remove blue runner from the FMP.

The Council has submitted Amendment 27 for Secretarial review, approval, and implementation. NMFS' decision to approve, partially approve, or disapprove Amendment 27 will be based, in part, on consideration of comments, recommendations, and information received during the comment period on this notice of availability. After consideration of these factors, and consistent with the Magnuson-Stevens Act and other applicable law, NMFS will publish a notice of agency action in the Federal Register announcing the Agency's decision to approve, partially approve, or disapprove Amendment 27.

Proposed Rule for Amendment 27

A proposed rule that would implement Amendment 27 has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

Comments received by November 18, 2013, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: September 13, 2013.
Kelly Denit,
Acting Deputy Director, Office of Sustainable Fisheries, National Marine Fisheries Service.

[FR Doc. 2013-22730 Filed 9-17-13; 8:45 am]

BILLING CODE 3510-22-P